DEPARTMENT OF HEALTH AND HUMAN SERVICES

Food and Drug Administration

[Docket No. FDA-2022-N-0619]

Advisory Committee; Gastrointestinal Drugs Advisory Committee; Renewal; Correction

AGENCY: Food and Drug Administration, HHS

ACTION: Notice; correction.

SUMMARY: The Food and Drug Administration (FDA) is correcting a notice entitled “Advisory Committee; Gastrointestinal Drugs Advisory Committee; Renewal” that appeared in the Federal Register of May 11, 2022. The document announced the renewal of the Gastrointestinal Drugs Advisory Committee. The document was published with the incorrect docket number. This document corrects that error.

FOR FURTHER INFORMATION CONTACT: Rhea Bhatt, Division of Advisory Committee and Consultant Management, Center for Drug Evaluation and Research, Food and Drug Administration, 10903 New Hampshire Ave., Bldg. 31, Rm. 2434, Silver Spring, MD 20993-0002, 301-796-9001, email: GIDAC@fda.hhs.gov.

SUPPLEMENTARY INFORMATION: In the Federal Register of Wednesday, May 11, 2022 (87 FR 28834), in FR Doc. 2022-10040, on page 28834, the following correction is made:

1. On page 28834, in the first column of the header of the document, “Docket No. FDA-2021-N-0619” is corrected to read “Docket No. FDA-2022-N-0619”.

Dated: May 13, 2022.
Lauren K. Roth,
Associate Commissioner for Policy.

[FR Doc. 2022-10941 Filed 5-20-22; 8:45 am]

BILLING CODE 4164-01-P